NATIONAL CREDIT UNION ADMINISTRATION

Notice of Meeting; Sunshine Act

Time and Date: 10 a.m., Thursday, February 17, 2005.

Place: Board Room, 7th Floor, Room 7047, 1775 Duke Street, Alexandria, VA 22314-3428.

Status: Open.

Matters to be Considered: 1. Quarterly Insurance Fund Report.

2. Final Rule: Section 701.21(e), (f), and (g) of NCUA's Rules and Regulations, Loans to Members and Lines of Credit to Members.

FOR FURTHER INFORMATION CONTACT: Mary Rupp, Secretary of the Board, telephone: 703-518-6304.

Mary Rupp,
Secretary of the Board.

[FR Doc. 05-2889 Filed 2-10-05; 1:03 pm]

BILLING CODE 7535-01-M